DEPARTMENT OF HEALTH AND HUMAN SERVICES

Centers for Disease Control and Prevention

[60Day-14-0591]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Select Agent Distribution Activity (SADA): Request for Select Agent (OMB Control No. 0920-0591 exp. 7/31/2014)—Extension—National Center for Emerging and Zoonotic Infectious Diseases (NCEZID), Centers for Disease Control and Prevention (CDC).

Background and Brief Description

The Centers for Disease Control and Prevention is requesting approval to continue data collection under the Select Agent Distribution Activity (SADA). The purpose of this data collection is to provide a systematic and consistent mechanism to review requests that come to CDC for Select Agents.

The term select agents is used to describe a limited group of viruses, bacteria, rickettsia, and toxins that have the potential for use as agents of bioterrorism, inflicting significant morbidity and mortality on susceptible populations. The SADA form is scheduled to expire on 07/31/2014.

SADA was originally created for the anticipated large number of requests for select agents by investigators seeking National Institutes of Health grants. The process was established to lessen the burden on CDC Subject Matter Experts (SMEs) who would be receiving requests for access to select agents housed within NCEZID.

The SADA application is a Material Transfer Agreement that is specific to select agent requests. Although the SADA Office has not received a new application since the last Office of Management and Budget (OMB) request, they have received several inquiries and provided assistance to both internal SMEs as well as outside requestors. CDC has deposited a variety of strains into the Biodefense and Emerging Infections (BEI) Research Resources Repository and requestors now have the option of requesting materials using this mechanism. However, CDC would like to maintain the ability to process requests if they receive them and is, therefore, making a request to use the SADA application indefinitely.

The number of potential respondents in a given year is unknown. The estimates below are based on if they were to receive requests from 900 respondents. A user fee will be collected to recover costs for materials, handling and shipping (except for public health laboratories).

The cost to the respondent will vary based on which agent is requested.

Estimated Annualized Burden Hours
Type of respondents | Form name | Number of respondents | Number of responses per respondent | Average burden per response (in hrs.) | Total burden (in hrs.)
Researcher | SADA Request for Select Agent | 900 | 1 | 30/60 | 450
Total |  |  |  |  | 450

LeRoy Richardson,
Chief, Information Collection Review Office, Office of Scientific Integrity, Office of the Associate Director for Science, Office of the Director, Centers for Disease Control and Prevention.

[FR Doc. 2014-03987 Filed 2-24-14; 8:45 am]

BILLING CODE 4163-18-P